OFFICE OF NATIONAL DRUG CONTROL POLICY

Paperwork Reduction Act; Notice of Intent To Collect; Comment Request

AGENCY: Office of National Drug Control Policy (ONDCP).

ACTION: ONDCP provides opportunity for public comment concerning the collection of information gathered for the purpose of developing and tracking anti-drug advertising for the National Youth Anti-Drug Media Campaign.

SUMMARY: This action proposes the renewal of three existing data collection instruments used in the production of ONDCP's National Youth Anti-Drug Media Campaign advertising and Media Campaign tracking.

SUPPLEMENTARY INFORMATION:

I. Purpose

The National Youth Anti-Drug Media Campaign is in the process of renewing three data collection instruments. These data collection instruments—pre-production qualitative (or “focus group”) testing of creative advertising concepts (OMB 3201-0011), pre-broadcast quantitative (or “copy”) testing of developed advertising (OMB 3201-0006) and a tracking study to measure advertising effectiveness (OMB 3201-0010)—are critical to the continuity and improvement of the Media Campaign and are key contributors to the downturn in drug abuse.

Type of Collections: OMB 3201-0011—Qualitative Research—Focus groups; OMB 3201-0006—Copytesting—15-minute mall intercept interviews; OMB 3201-0010—Tracking Study—15-minute mall intercept interviews.

Title of Collection: See above.

Frequency: OMB 3201-0011—Qualitative Research—Quarterly; OMB 3201-0006—Copytesting—Quarterly; OMB 3201-0010—Tracking Study—Weekly.

Affected Public: Teenagers and adult influencers of teenagers.

Estimated Burden: OMB 3201-0011—Qualitative Research—$11,600; OMB 3201-0006—Copytesting—$16,500; OMB 3201-0010—Tracking Study—$21,000.

II. Special Issues for Comment

ONDCP especially invites comments on: (a) Ways to enhance information quality, utility, and clarity of the collection instruments; and (b) ways to ease the burden on respondents, including the use of automated collection techniques or other forms of information technology.

Comments: Address comments within 60 days to Mark Krawczyk, Executive Office of the President, Office of National Drug Control Policy, Washington, DC 20503; by e-mail at MKrawczyk@ondcp.eop.gov; or, by fax at (202) 395-0858. For further information, contact Mr. Krawczyk at (202) 395-6720.

Signed in Washington, DC, on November 3, 2008.
Daniel R. Petersen,
Assistant General Counsel.

[FR Doc. E8-26553 Filed 11-6-08; 8:45 am]

BILLING CODE 3180-02-P